DEPARTMENT OF LABOR

Occupational Safety and Health Administration

[Docket No. OSHA-H022k-2006-0062]

Preparations for the 28th Session of the UN Sub-Committee of Experts on the Globally Harmonized System of Classification and Labelling of Chemicals (UNSCEGHS)

AGENCY: Occupational Safety and Health Administration (OSHA), Department of Labor

ACTION: Notice of public meeting.

SUMMARY: This notice is to advise interested persons that on Wednesday, November 12, 2014, OSHA, as a representative of the U.S Interagency GHS (Globally Harmonized System of Classification and Labelling of Chemicals) Coordinating Group, will conduct a public meeting to discuss proposals in preparation for the 28th session of the United Nations Sub-Committee of Experts on the Globally Harmonized System of Classification and Labelling of Chemicals (UNSCEGHS) to be held December 10 to 12, 2014 in Geneva, Switzerland. OSHA, along with the U.S. Interagency GHS Coordinating Group, plans to consider the comments and information gathered at this public meeting when developing the U.S. Government positions for the UNSCEGHS meeting.

Also, on Wednesday, November 12, 2014, the Department of Transportation (DOT), Pipeline and Hazardous Materials Safety Administration (PHMSA) will conduct a public meeting (See Docket No. PHMSA-2014-0117, Notice No. 14-12) to discuss proposals in preparation for the 46th session of the United Nations Sub-Committee of Experts on the Transport of Dangerous Goods (UNSCOE TDG) to be held December 1 to December 9, 2014, in Geneva, Switzerland.

DATES: Wednesday, November 12, 2014.

ADDRESSES: Both meetings will be held at the DOT Headquarters Conference Center, West Building, 1200 New Jersey Avenue SE., Washington, DC 20590.

Times and Locations

PHMSA public meeting: 9:00 a.m. to 12:00 p.m. EDT, Conference Room 4.

OSHA public meeting: 1:00 p.m. to 4:00 p.m. EDT, Conference Room 4.

Registration: It is requested that attendees pre-register for these meetings by completing the form at: https://www.surveymonkey.com/s/9WWZWR2. Attendees may use the form to pre-register for the OSHA meeting, the PHMSA meeting, or both meetings. Failure to pre-register may delay your access to the DOT building. Participants attending in person are encouraged to arrive early to allow time for security checks necessary to obtain access to the building.

Conference call-in and “live meeting” capability will be provided for both meetings. Specific information on call-in and live meeting access will be posted when available at: http://www.osha.gov/dsg/hazcom/ and at: http://www.phmsa.dot.gov/hazmat/regs/international.

FOR FURTHER INFORMATION CONTACT: Maureen Ruskin, Office of Chemical Hazards-Metals, OSHA Directorate of Standards and Guidance, Department of Labor, Washington, DC 20210; telephone: (202) 693-1950, email: ruskin.maureen@dol.gov.

SUPPLEMENTARY INFORMATION:

The OSHA Meeting: OSHA is hosting an open informal public meeting of the U.S. Interagency GHS Coordinating Group to provide interested groups and individuals with an update on GHS-related issues and an opportunity to express their views orally and in writing for consideration in developing U.S. Government positions for the upcoming UNSCEGHS meeting. Interested stakeholders may also provide input on issues related to OSHA's activities in the U.S.—Canada Regulatory Cooperation Council (RCC) at the meeting.

General topics on the agenda include:

• Review of Working papers

• Correspondence Group updates

• Regulatory Cooperation Council (RCC) Update.

Information on the work of the UNSCEGHS including meeting agendas, reports, and documents from previous sessions, can be found on the United Nations Economic Commission for Europe (UNECE) Transport Division Web site located at the following web address: http://www.unece.org/trans/danger/publi/ghs/ghs_welcome_e.html. The UNSCEGHS bases its decisions on Working Papers. The Working Papers for the 28th session of the UNSCEGHS are located at: http://www.unece.org/trans/main/dgdb/dgsubc4/c42014.html.

Informal Papers submitted to the UNSCEGHS provide information for the Sub-committee and are used either as a mechanism to provide information to the Sub-committee or as the basis for future Working Papers. Informal Papers for the 28th session of the UNSCEGHS are located at: http://www.unece.org/trans/main/dgdb/dgsubc4/c4inf28.html

The PHMSA Meeting: The Federal Register notice and additional detailed information relating to PHMSA's public meeting will be available upon publication at http://www.regulations.gov (Docket No. PHMSA-2014-0117) and on the PHMSA Web site at: http://www.phmsa.dot.gov/hazmat/regs/international.

Authority and Signature

This document was prepared under the direction of David Michaels, Ph.D., MPH, Assistant Secretary of Labor for Occupational Safety and Health, U.S. Department of Labor, pursuant to sections 4, 6, and 8 of the Occupational Safety and Health Act of 1970 (29 U.S.C. 653, 655, 657), and Secretary's Order 1-2012 (77 FR 3912), (Jan. 25, 2012).

Signed at Washington, DC, on October 24, 2014.
David Michaels,
Assistant Secretary of Labor for Occupational Safety and Health.

[FR Doc. 2014-25690 Filed 10-28-14; 8:45 am]

BILLING CODE 4510-26-P